DEPARTMENT OF TRANSPORTATION

Federal Aviation Administration

14 CFR Part 39

[Docket No. FAA-2004-19928; Directorate Identifier 2004-NE-27-AD; Amendment 39-14082; AD 2005-10-05]

RIN 2120-AA64

Airworthiness Directives; CFM International CFM56-5, -5B, and -5C Series Turbofan Engines

AGENCY: Federal Aviation Administration (FAA), DOT.

ACTION: Final rule.

SUMMARY: The FAA is adopting a new airworthiness directive (AD) for CFM International CFM56-5, -5B, and -5C series turbofan engines. This AD requires removing certain part number (P/N) air turbine starters from service. This AD results from several reports of uncontained failures of air turbine starters where high-energy particles were not contained within the containment feature of the starter. We are issuing this AD to prevent uncontained failures of air turbine starters, which could result in damage to the airplane.

DATES: This AD becomes effective June 14, 2005.

ADDRESSES: You can get the service information identified in this AD from CFM International, Technical Information Operation, One Neumann Way, Cincinnati, OH 45215-1988.

You may examine the AD docket on the Internet at http://dms.dot.gov or in Room PL-401 on the plaza level of the Nassif Building, 400 Seventh Street, SW., Washington, DC.

FOR FURTHER INFORMATION CONTACT: James Rosa, Aerospace Engineer, Engine Certification Office, FAA, Engine and Propeller Directorate, 12 New England Executive Park, Burlington, MA 01803-5299; telephone (781) 238-7152; fax (781) 238-7199.

SUPPLEMENTARY INFORMATION: The FAA proposed to amend 14 CFR part 39 with a proposed airworthiness directive (AD). The proposed AD applies to CFM International CFM56-5, -5B, and -5C series turbofan engines. We published the proposed AD in the Federal Register on December 28, 2004 (69 FR 77677). That action proposed to require removing certain P/N air turbine starters from service.

Examining the AD Docket

You may examine the docket that contains the AD, any comments received, and any final disposition in person at the DMS Docket Offices between 9 a.m. and 5 p.m., Monday through Friday, except Federal holidays. The Docket Office (telephone (800) 647-5227) is located on the plaza level of the Department of Transportation Nassif Building at the street address stated in ADDRESSES. Comments will be available in the AD docket shortly after the DMS receives them.

Comments

We provided the public the opportunity to participate in the development of this AD. We have considered the two comments received.

One commenter states that the AD should mention only “CFM56-5” not “CFM56-5 and CFM56-5A” turbofan engines.

We agree. We have replaced references to “CFM56-5 and CFM56-5A” with “CFM56-5”.

This commenter also indicated that the acronym “CFMI” is no longer in use and should be replaced with “CFM”.

We agree that this acronym is no longer used although the company is still known as “CFM International.” We have, therefore, removed references to “CFMI” and replaced them with “CFM International” or “CFM.”

Conclusion

We have carefully reviewed the available data, including the comments received, and determined that air safety and the public interest require adopting the AD with the changes described previously. We have determined that these changes will neither increase the economic burden on any operator nor increase the scope of the AD.

Costs of Compliance

There are about 3,579 CFM International CFM56-5, -5B, and -5C series turbofan engines of the affected design in the worldwide fleet. We estimate that this AD will affect 600 air turbine starters installed on airplanes of U.S. registry. We also estimate that it will take about 1 work hour per engine to perform these actions, and that the average labor rate is $65 per work hour. Required parts will cost about $5,000 per air turbine starter. Based on these figures, we estimate the total cost of the AD to U.S. operators to be approximately $3,039,000.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a summary of the costs to comply with this AD and placed it in the AD Docket. You may get a copy of this summary at the address listed under ADDRESSES.

List of Subjects in 14 CFR Part 39

Air transportation, Aircraft, Aviation safety, Safety.

Adoption of the Amendment

Accordingly, under the authority delegated to me by the Administrator, the Federal Aviation Administration amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2005-10-05 CFM International: Amendment 39-14082. Docket No. FAA-2004-19928; Directorate Identifier 2004-NE-27-AD.

Effective Date

(a) This airworthiness directive (AD) becomes effective June 14, 2005.

Affected ADs

(b) None.

Applicability

(c) This AD applies to CFM International CFM56-5, -5B, and -5C series turbofan engines with air turbine starters, part numbers (P/Ns) VIN 3505582-24 (301-807-004-0), VIN 3505582-25 (301-807-005-0), VIN 3505582-40 (301-781-203-0), VIN 3505582-41 (301-806-602-0), VIN 3505582-42 (301-806-802-0), VIN 3505582-60 (301-790-903-0), VIN 3505582-61 (301-806-702-0), and VIN 3505582-62 (301-806-902-0), installed. These engines are installed on, but not limited to, Airbus A319, A320, A321, and A340 airplanes.

Unsafe Condition

(d) This AD results from several reports of failures of uncontained air turbine starters where high-energy particles were not contained within the containment feature of the starter. We are issuing this AD to prevent uncontained failures of air turbine starters, which could result in damage to the airplane.

Compliance

(e) You are responsible for having the actions required by this AD performed within the compliance times specified unless the actions have already been done.

Removing Air Turbine Starters

(f) At the next air turbine starter shop visit, but no later than December 31, 2009, remove any air turbine starter, that has a P/N specified in this AD, from service.

Prohibition of Air Turbine Starters Not Reworked or Remarked

(g) After the effective date of this AD, do not install any air turbine starters that have a P/N specified in this AD into any engine.

Alternative Methods of Compliance

(h) The Manager, Engine Certification Office, has the authority to approve alternative methods of compliance for this AD if requested using the procedures found in 14 CFR 39.19.

Related Information

(i) The following documents also pertain to the subject of this AD:

(1) Direction Generale de L'Aviation Civile (DGAC) AD F-2003-456, Revision 2, dated September 29, 2004.

(2) CFM Service Bulletin (SB) No. (CFM56-5) 80-0018, Revision 1, dated November 26, 2003.

(3) CFM SB No. (CFM56-5) 80-0020, Revision 1, dated November 26, 2003.

(4) CFM SB No. (CFM56-5B) 80-0011, Revision 1, dated November 26, 2003.

(5) CFM SB No. (CFM56-5C) 80-0013, Revision 1, dated November 26, 2003.

Issued in Burlington, Massachusetts, on May 3, 2005.
Francis A. Favara,
Acting Manager, Engine and Propeller Directorate, Aircraft Certification Service.

[FR Doc. 05-9275 Filed 5-9-05; 8:45 am]

BILLING CODE 4910-13-P